ENVIRONMENTAL PROTECTION AGENCY

[FRL-9323-2]

Clean Air Act Operating Permit Program; Petition for Objection to State Operating Permit for TransAlta Centralia Generation, LLC—Coal-Fired Power Plant

AGENCY: Environmental Protection Agency (EPA).

ACTION: Notice of final action.

SUMMARY: This document announces that the EPA Administrator has responded to a citizen petition asking EPA to object to an operating permit issued by the Southwest Clean Air Agency (SWCAA). Specifically, the Administrator has denied the October 29, 2009 petition, submitted by EarthJustice on behalf of the Sierra Club, the National Parks Conservation Association, and the Northwest Environmental Defense Center (Petitioners), to object to the September 16, 2009, operating permit issued to TransAlta Centralia Generation, LLC for a coal-fired power plant in Centralia, Washington. Pursuant to sections 307(b) and 505(b)(2) of the Clean Air Act (CAA), a petition for judicial review of those parts of the Order that deny issues in the petition may be filed in the United States Court of Appeals for the appropriate circuit within 60 days from the date this notice appears in the Federal Register.

ADDRESSES: You may review copies of the final Order, the petition, and other supporting information at the Office of Air, Waste and Toxics, EPA Region 10, 1200 Sixth Avenue, Seattle Washington, 98101.

EPA requests that if at all possible, you contact the individual listed in the FOR FURTHER INFORMATION CONTACT section to view the copies of the final order, the petition, and other supporting information. You may view the hard copies Monday through Friday, 8 a.m. to 4 p.m., excluding Federal holidays. If you wish to examine these documents, you should make an appointment at least 24 hours before the visiting day. Additionally, the final order for the TransAlta Centralia plant is available electronically at: http://www.epa.gov/region7/air/title5/petitiondb/petitions/transalta_response2009.pdf .

FOR FURTHER INFORMATION CONTACT: Sara Bent at telephone number: (206) 553-6350, e-mail address: bent.sara@epa.gov or the above EPA, Region 10 address.

SUPPLEMENTARY INFORMATION: The CAA affords EPA a 45-day period to review, and object to as appropriate, a Title V operating permit proposed by State permitting authorities. Section 505(b)(2) of the Act authorizes any person to petition the EPA Administrator, within 60 days after the expiration of this review period, to object to a Title V operating permit if EPA has not done so. Petitions must be based only on objections to the permit that were raised with reasonable specificity during the public comment period provided by the State, unless the petitioner demonstrates that it was impracticable to raise these issues during the comment period or the grounds for the issue arose after this period.

EPA received a petition from the Petitioners dated October 29, 2009, requesting that EPA object to the issuance of the Title V operating permit to TransAlta Centralia Generation, LLC for the operation of a coal-fired power plant in Centralia, Washington for the following reasons: (I) The Title V permit failed to provide for the control of carbon dioxide emissions, an air contaminant that is detrimental to human health and welfare, property, and business; (II) The Title V permit failed to provide for the control of mercury emissions, an air contaminant that is detrimental to human health and welfare, property, and business; (III) The Title V permit failed to provide for adequate control of nitrogen oxide emissions, an air contaminant that is detrimental to human health and welfare, property, and business; (IV) The Title V permit failed to require Reasonably Available Control Technology for the control of carbon dioxide emissions or for mercury emissions; and (V) The Title V permit's start-up, shut-down and malfunction provisions are contrary to recent case law interpreting the requirements of the Clean Air Act.

On April 28, 2011, the Administrator issued an order denying the petition. The order explains the reasons behind EPA's conclusion to deny the petition for objection.

Dated: June 10, 2011.
Michelle L. Pirzadeh,
Deputy Regional Administrator, Region 10.

[FR Doc. 2011-15742 Filed 6-22-11; 8:45 am]

BILLING CODE 6560-50-P